SECURITIES AND EXCHANGE COMMISSION

[SEC File No. 270-563, OMB Control No. 3235-0656]

Proposed Collection; Comment Request; Extension: Rule 17g-7

Upon Written Request, Copies Available From: Securities and Exchange Commission, Office of FOIA Services, 100 F Street NE, Washington, DC 20549-2736

Notice is hereby given that pursuant to the Paperwork Reduction Act of 1995 (44 U.S.C. 3501 et seq.), the Securities and Exchange Commission (“Commission”) is soliciting comments on the existing collection of information provided for in Rule 17g-7 (17 CFR 240.17g-7) under the Securities Exchange Act of 1934 (15 U.S.C. 78a et seq.). The Commission plans to submit this existing collection of information to the Office of Management and Budget for extension and approval.

Rule 17g-7 requires each nationally recognized statistical rating organization (“NRSROs”) to publish certain items, including a form containing specified information, when taking a rating action with respect to a credit rating ¹ and to disclose rating histories for free on an easily accessible portion of its corporate internet website.² There are currently 10 NRSROs registered with the Commission, and it is estimated that NRSROs will take collectively approximately 1,908,530 rating actions per year.

¹ See 240.17g-7(a).

² See 240.17g-7(b).

Based on staff experience, the Commission estimates that the total annual hour burden to comply with Rule 17g-7 will be 641,673 hours. The Commission further estimates that this annual hour burden will result in a total annual cost of $238,688,856, reflecting the cost of preparing the form required to be published by Rule 17g-7 and standardizing and tailoring certain required disclosures, as well as the cost of maintaining a database of rating histories to comply with Rule 17g-7.

Written comments are invited on: (a) whether the proposed collection of information is necessary for the proper performance of the functions of the Commission, including whether the information shall have practical utility; (b) the accuracy of the Commission's estimates of the burden of the proposed collection of information; (c) ways to enhance the quality, utility, and clarity of the information on respondents; and (d) ways to minimize the burden of the collection of information on respondents, including through the use of automated collection techniques or other forms of information technology. Consideration will be given to comments and suggestions submitted by July 8, 2024.

An agency may not conduct or sponsor, and a person is not required to respond to, a collection of information unless it displays a currently valid OMB control number. Please direct your written comments to: Dave Bottom, Director/Chief Information Officer, Securities and Exchange Commission, c/o John Pezzullo, 100 F St. NE, Washington, DC 20549 or send an email to: PRA_Mailbox@sec.gov.

Dated: May 1, 2024.
Sherry R. Haywood,
Assistant Secretary.

[FR Doc. 2024-09848 Filed 5-6-24; 8:45 am]

BILLING CODE 8011-01-P